DEPARTMENT OF THE INTERIOR

National Park Service

[2253-665]

Notice of Intent to Repatriate Cultural Items: Rochester Museum & Science Center, Rochester, NY

AGENCY: National Park Service, Interior.

ACTION: Notice.

SUMMARY: The Rochester Museum & Science Center, in consultation with the appropriate Indian tribe, has determined that the cultural items meet the definition of both sacred objects and objects of cultural patrimony and repatriation to the Indian tribe stated below may occur if no additional claimants come forward. Representatives of any Indian tribe that believes itself to be culturally affiliated with the cultural items may contact the Rochester Museum & Science Center.

DATES: Representatives of any Indian tribe that believes it has a cultural affiliation with the cultural items should contact the Rochester Museum & Science Center at the address below by May 2, 2012.

ADDRESSES: Adele DeRosa, Rochester Museum & Science Center, 657 East Avenue, Rochester, NY 14607, telephone (585) 271-4552 x 302.

SUPPLEMENTARY INFORMATION: Notice is here given in accordance with the Native American Graves Protection and Repatriation Act (NAGPRA), 25 U.S.C. 3005, of the intent to repatriate cultural items under the control of the Rochester Museum & Science Center that meet the definition of both sacred objects and objects of cultural patrimony under 25 U.S.C. 3001.

This notice is published as part of the National Park Service's administrative responsibilities under NAGPRA, 25 U.S.C. 3003 (d)(3). The determinations in this notice are the sole responsibility of the museum, institution or Federal agency that has control of the cultural items. The National Park Service is not responsible for the determinations in this notice.

History and Description of the Cultural Items

Between 1923 and 1984, the Rochester Museum & Science Center acquired 36 medicine faces made by members of the Seneca Nation of New York from a variety of sources. All of these medicine faces are currently in the possession of the Rochester Museum & Science Center.

In 1928, Alvin Dewey received from the Rev. John W. Sanborn collection two 19th century cornhusk medicine faces (29.259.36/AE 2914/D 10626 and 29.259.77/AE 2914/D 10625). Rev. Sanborn was appointed missionary to the Seneca Indians at Gowanda in 1877 and was adopted into the wolf clan.

In 1934, Arthur Parker acquired two 19th century cornhusk medicine faces (34.141.1/AE 2480 and 34.141.2/AE 2480) and one 19th century wooden medicine face (34.141.3/AE 2481) on the Cattaraugus Reservation.

In 1924, E.D. Putnam purchased two 19th century wooden medicine faces (24.61.5/AE 0500 and 24.61.13/AE 0509) on the Allegany Reservation.

In 1923, E.D. Putnam purchased two 19th century small wooden medicine faces (23.32.77/AE 363A and 23.32.40/AE 0366) and three 19th century large wooden medicine faces (23.32.24/AE 0349; 23.32.45/AE 0371; and 23.47.1/AE 0404) on the Cattaraugus Reservation.

On August 18, 1923, E.D. Putnam purchased two 19th century cornhusk medicine faces (23.32.42/AE 0368 and 23.32.43/AE 0368) and one 19th century cornhusk medicine face for a leader's pole (23.32.37/AE 0363B) on the Cattaraugus Reservation.

On August 18, 1923, E.D. Putnam purchased two 19th century cornhusk medicine faces (23.32.4/AE 0330 and 24.61.10/AE 0505) on the Allegany Reservation.

In 1923, E.D. Putnam likely purchased one 19th century cornhusk medicine face (73.00.2.1) on either the Cattaraugus or Allegany Reservations.

In 1926, E.J. Burke collected one 19th century cornhusk medicine face (26.26.2/AE 0769) from an unknown location.

In 1925, Everett R. Burmaster collected two 19th century cornhusk medicine face (25.69.1/AE 0482A and 25.69.2/AE 0482B) and one 19th century wooden medicine face (25.69.1/AE 0309) on the Cattaraugus Reservation.

In 1926, Everett R. Burmaster collected one 19th century wooden medicine face (26.63.1/AE 0010) on the Cattaraugus Reservation.

In 1928, Everett R. Burmaster collected one partially carved 19th century medicine face on a tree trunk (28.92.1/AE 0130) on the Cattaraugus Reservation.

In 1927, the Rochester Museum of Arts and Science (later the Rochester Museum & Science Center) purchased one 19th century wooden medicine face (27.81.463/AE 1171) from the Opdyke estate.

In 1925, an unknown individual collected one 19th century wooden medicine face with two bundles (25.75.1/AE 0578) in New York State.

In 1928, an unknown individual collected one late 19th century wooden medicine face (28.185.1/AE 1135) near Chautauqua Lake, NY.

In 1926, Arthur Parker collected one 19th century cornhusk medicine face (26.70.1/AE 0762) from an unknown location.

In 1931, an unknown individual collected one early 20th century wooden medicine face (31.147.1/AE 2276) on the Cattaraugus Reservation.

In 1938, an unknown individual collected two early 20th century wooden medicine faces (38.367.2/AE 7238 and 38.367.1/AE 7238) on the Cattaraugus Reservation.

In 1935, the Rochester Museum of Arts and Science (later the Rochester Museum & Science Center) received one small early 20th century wooden medicine face (35.252.1/AE 3623) made on the Cattaraugus Reservation and donated by an unknown individual.

In 1984, the Rochester Museum & Science Center purchased one 20th century cornhusk medicine face (84.171.1) made on the Cattaraugus Reservation in 1980.

In 1929, Albert Heath purchased one 19th century small wooden medicine face (29.273.1/AE 1690) from an unknown location.

In 1923, an unknown individual purchased two early 20th century wooden medicine faces (23.47.2/AE 0405 and 23.47.3/AE 0406) at the Seneca Trading Post, in Collins, NY.

Traditional religious leaders of the Seneca Nation of New York have identified these medicine faces as being needed for the practice of traditional Native American religions by present-day adherents. In the course of consultations with representatives of the Seneca Nation of New York, it was shown that individuals who carved these medicine faces did not have the authority to alienate them to a third party. Because the individuals who carved these faces did not have the authority to alienate them, a third party could not have been given any ownership or property rights over the medicine faces and therefore, could not have properly transferred them to the Rochester Museum & Science Center. Museum documentation, supported by oral evidence presented during consultation by Seneca Nation of New York representatives, indicates that these medicine faces are culturally affiliated with the Seneca Nation of New York. Museum representatives also consulted with other Haudenosaunee and non-Haudenosaunee consultants.

Determinations made by the Rochester Museum & Science Center

Officials of the Rochester Museum & Science Center, Rochester have determined that:

• Pursuant to 25 U.S.C. 3001 (3)(D), the 36 cultural items described above are specific ceremonial objects needed by traditional Native American religious leaders for the practice of traditional Native American religions by their present adherents, and have an ongoing historical, traditional, or cultural importance central to the Native American group or culture itself, rather than property owned by an individual.

• Pursuant to 25 U.S.C. 3001 (2), there is a relationship of shared group identity that can be reasonably traced between these medicine faces and the Seneca Nation of New York.

Additional Requestors and Disposition

Representatives of any other Indian Nation or tribe that believes itself to be culturally affiliated with these medicine faces should contact Adele DeRosa, Rochester Museum & Science Center, Rochester, NY 14607, telephone (585) 271-4552 x 302, before May 2, 2012. Repatriation of these medicine faces to the Seneca Nation of New York may proceed after that date if no additional claimants come forward.

The Rochester Museum & Science Center, Rochester, NY, is responsible for notifying the Seneca Nation of New York that this notice has been published.

Dated: March 28, 2012.
Sherry Hutt,
Manager, National NAGPRA Program.

[FR Doc. 2012-7882 Filed 3-30-12; 8:45 am]

BILLING CODE 4312-50-P